DEPARTMENT OF EDUCATION

Office of Postsecondary Education; Fund for the Improvement of Postsecondary Education—Special Focus Competition: Program for North American Mobility in Higher Education

ACTION: Notice inviting applications for new awards for fiscal year (FY) 2006; Correction.

SUMMARY: On December 7, 2005, we published in the Federal Register (70 FR 72796) a notice inviting applications for new awards for FY 2006 for the Fund for the Improvement of Postsecondary Education—Special Focus Competition: Program for North American Mobility in Higher Education. The notice contained incomplete information about the submission of applications. The following language should be inserted on page 72798, column one, as the fourth bulleted paragraph:

“You will not receive additional point value because you submit your application in electronic format, nor will we penalize you if you qualify for an exception to the electronic submission requirement, as described elsewhere in this section, and submit your application in paper format.”

FOR FURTHER INFORMATION CONTACT: Sylvia W. Crowder, Fund for the Improvement of Postsecondary Education, Program for North American Mobility in Higher Education, 1990 K Street, NW., 6th floor, Washington, DC 20006-8544. Telephone: (202) 502-7514.

If you use a telecommunications device for the deaf (TDD), you may call the Federal Relay Service (FRS) at 1-800-877-8339.

Individuals with disabilities may obtain this document in an alternative format (e.g., Braille, large print, audiotape, or computer diskette) on request to the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: December 21, 2005.
Sally Stroup,
Assistant Secretary for Postsecondary Education.

[FR Doc. 05-24537 Filed 12-22-05; 2:26 pm]

BILLING CODE 4000-01-P